DEPARTMENT OF HOMELAND SECURITY

Coast Guard

33 CFR Part 100

[Docket No. USCG-2024-0258]

Special Local Regulations; Recurring Marine Events, Seventh Coast Guard District

AGENCY: Coast Guard, DHS.

ACTION: Notification of enforcement of regulation.

SUMMARY: The Coast Guard will enforce special local regulations for the 86th Annual Brunswick Blessing of the Fleet event on May 11, 2024, to provide for the safety of life on navigable waterways during this event. Our regulation for marine events within the Seventh Coast Guard District identifies the regulated area for this event in Brunswick, GA. During the enforcement periods, no person or vessel may enter, transit through, anchor in, or remain within the regulated area unless authorized by the Coast Guard Patrol Commander or a designated representative.

DATES: The regulations in 33 CFR 100.701 will be enforced from 10 a.m. through 4 p.m., on May 11, 2024, for the regulated area listed in paragraph (d), Item No. 1 of Table 1 to § 100.701.

FOR FURTHER INFORMATION CONTACT: If you have questions about this notification of enforcement, call or email Lieutenant Anthony Harris, Marine Safety Unit Savannah Waterways Division, U.S. Coast Guard; telephone 912-210-8714, email at Anthony.E.Harris@uscg.mil.

SUPPLEMENTARY INFORMATION: The Coast Guard will enforce special local regulations in 33 CFR 100.701 for the 86th Annual Brunswick, Blessing of the Fleet event regulated area identified in paragraph (d) of Table 1 to § 100.701, Item No. 1, from 10 a.m. through 4 p.m. on May 11, 2024. This action is being taken to provide for the safety of life on navigable waterways during this event. Our regulation for recurring marine events within the Seventh Coast Guard District, § 100.701, Table 1 to § 100.701, paragraph (d), Item No.1, specifies the location of the regulated area for the Annual Brunswick Blessing of the Fleet event, which encompasses portions of the Brunswick River from the start of the East branch of the Brunswick River (East Brunswick River) to the Golden Isles Parkway Bridge. Under the provisions of 33 CFR 100.701, all persons and vessels are prohibited from entering the regulated area, except those persons and vessels participating in the event, unless they receive permission to do so from the Coast Guard Patrol Commander, or designated representative.

Under the provisions of 33 CFR 100.701, spectator vessels may safely transit outside the regulated area, but may not anchor, block, loiter in, impede the transit of festival participants or official patrol vessels or enter the regulated area without approval from the Coast Guard Patrol Commander or a designated representative. The Coast Guard may be assisted by other Federal, State, or local law enforcement agencies in enforcing this regulation. In addition to this notice of enforcement in the Federal Register, the Coast Guard will provide notice of the regulated area via Local Notice to Mariners, Marine Safety Information Bulletins, Broadcast Notice to Mariners, and on-scene designated representatives.

Dated: May 7, 2024.
Nathaniel L. Robinson,
Commander, U.S. Coast Guard, Captain of the Port Savannah, GA.

[FR Doc. 2024-10428 Filed 5-10-24; 8:45 am]

BILLING CODE 9110-04-P